GENERAL SERVICES ADMINISTRATION

[Notice-Q-2024-08; Docket No. 2024-0002; Sequence No. 58]

Federal Secure Cloud Advisory Committee Notification of Upcoming Meeting

AGENCY: Federal Acquisition Service (Q), General Services Administration (GSA).

ACTION: Meeting notice.

SUMMARY: As stipulated by the Federal Advisory Committee Act (FACA), as amended, GSA is hereby giving notice of two (2) open public meetings of the Federal Secure Cloud Advisory Committee (FSCAC). Information on attending and providing public comment is under the SUPPLEMENTARY INFORMATION section.

DATES: The open public meetings will be held virtually on Wednesday, February 26, 2025, from 12 p.m. to 5 p.m., eastern time (ET), and Thursday, February 27, 2025, from 12 p.m. to 4 p.m., eastern time (ET). The meeting materials, registration information, and agendas for the meetings will be made available prior to the meeting online at https://gsa.gov/fscac. Additional information can be found under the Supplementary Information section of this notice. Both meetings will be open to the public for the entire time.

ADDRESSES: The meetings will be accessible via webcast. Registration is required for attending each meeting and will be made available prior to the meetings online at https://gsa.gov/fscac, by selecting the “Federal Secure Cloud Advisory Committee meetings” tab on the left, and then selecting the “February 26 & 27, 2025—Virtual” meeting accordion in order to view all meeting materials, agendas, and registration information. Registrants will receive the webcast information before the meetings.

FOR FURTHER INFORMATION CONTACT: Michelle White, Designated Federal Officer (DFO), FSCAC, GSA, 703-489-4160, fscac@gsa.gov.

SUPPLEMENTARY INFORMATION:

Background

GSA, in compliance with the FedRAMP Authorization Act of 2022 (the Act), established the FSCAC, a statutory advisory committee in accordance with the provisions of FACA, as amended (5 U.S.C. 1001 et seq.). The Federal Risk and Authorization Management Program (FedRAMP) within GSA is responsible for providing a standardized, reusable approach to security assessment and authorization for cloud computing products and services that process unclassified information used by agencies.

The FSCAC will provide advice and recommendations to the Administrator of GSA, the FedRAMP Board, and agencies on technical, financial, programmatic, and operational matters regarding the secure adoption of cloud computing products and services. The FSCAC will ensure effective and ongoing coordination of agency adoption, use, authorization, monitoring, acquisition, and security of cloud computing products and services to enable agency mission and administrative priorities. The purposes of the Committee are:

• To examine the operations of FedRAMP and determine ways that authorization processes can continuously be improved, including the following:

○ Measures to increase agency reuse of FedRAMP authorizations.

○ Proposed actions that can be adopted to reduce the burden, confusion, and cost associated with FedRAMP authorizations for cloud service providers.

○ Measures to increase the number of FedRAMP authorizations for cloud computing products and services offered by small businesses concerns (as defined by section 3(a) of the Small Business Act (15 U.S.C. 632(a)).

○ Proposed actions that can be adopted to reduce the burden and cost of FedRAMP authorizations for agencies.

• Collect information and feedback on agency compliance with, and implementation of, FedRAMP requirements.

• Serve as a forum that facilitates communication and collaboration among the FedRAMP stakeholder community.

The FSCAC will meet no fewer than three (3) times a calendar year. Meetings shall occur as frequently as needed, called, and approved by the DFO.

Purpose of the Meeting and Agenda

The February 26, 2025 public meeting will include two presentations by FedRAMP on their roadmap as well as commercial and federal framework reciprocity, and the meeting will also include several panel discussions on the topics of the current FedRAMP authorization process experience, the current state of Open Security Controls Assessment Language (OSCAL), and Federal framework reciprocity.

The February 27, 2025 public meeting will be dedicated to continued deliberations in order to finalize recommendations to the GSA Administrator on their initial two (2) priority initiatives of 1) identifying and documenting top challenges and proposing solutions around the barrier to entry for Cloud Service Providers (CSPs) with a focus on small businesses, third party assessment organizations (3PAOs), and small & large agencies, and 2) identifying and documenting ways to expedite the authorization process for Cloud Service Offerings (CSOs), such as exploring agile authorizations and other potential cost reductions, both labor and financial, with a focus on small businesses.

Additionally, the committee will begin deliberations to develop their initial recommendations on their last two (2) priority initiatives of 3) identifying best practices and recommendations on how FedRAMP can make progress with commercial reciprocity using different security frameworks, and 4) identifying what is needed to support OSCAL adoption and if there are any barriers to OSCAL interoperability within the CSP and agency GRC ecosystem that need to be addressed.

Members of the public will have the opportunity to provide oral public comments during each meeting, and may also submit public comments in writing prior to this meeting by completing the public comment form on our website, https://gsa.gov/fscac. The meeting agendas will be posted on https://gsa.gov/fscac prior to each meeting and can be accessed by selecting the “Federal Secure Cloud Advisory Committee meetings” tab on the left, and then selecting the “February 26 & 27, 2025—Virtual” meeting accordion in order to view all meeting materials, agendas, and registration information.

Meeting Attendance

The virtual meeting is open to the public. The meeting materials, registration information, and agenda will be made available prior to the meeting online at https://gsa.gov/fscac,by selecting the “Federal Secure Cloud Advisory Committee meetings” tab on the left, and then selecting the “February 26 & 27, 2025—Virtual” meeting accordion. Registration for attending the virtual meeting is highly encouraged by 5 p.m. EST, on Friday, February 21, 2025. After registration, individuals will receive instructions on how to attend the meetings via email.

For information on services for individuals with disabilities, or to request accommodation for a disability, please email the FSCAC staff at FSCAC@gsa.gov at least 10 days prior to the meeting date. Live captioning may be provided virtually.

Public Comment

Members of the public attending will have the opportunity to provide oral public comment during the FSCAC meeting. Written public comments can be submitted at any time by completing the public comment form on our website, https://gsa.gov/fscac, located under the “Get Involved” section. All written public comments will be provided to FSCAC members in advance of the meeting if received by Tuesday, February 18, 2025.

Margaret Dugan,
Service-Level Liaison, Federal Acquisition Service, General Services Administration.

[FR Doc. 2024-30489 Filed 12-20-24; 8:45 am]

BILLING CODE 6820-34-P